DEPARTMENT OF JUSTICE

Antitrust Division

Notice Pursuant to the National Cooperative Research and Production Act of 1993—Cyber Security Industry Alliance, Inc.

Notice is hereby given that, on September 20, 2004, pursuant to section 6(a) of the National Cooperative Research and Production Act of 1993, 15 U.S.C. 4301 et seq. (“the Act”), Cyber Security Industry Alliance, Inc. (“CSIA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Cyber Security Industry Alliance, Inc., Wakefield, MA. The nature and scope of CSIA's standards development activities are: To promote the continuous enhancement of cyber security through public policy, education and technology-focused initiatives; (2) to promote such initiatives across the cyber security industry and on a global basis; (3) to promote and encourage the adoption of strong, effective technology standards relating to the cyber security industry through the foregoing initiatives and public education; and (4) to undertake such other activities as may from time to time be appropriate to further the purposes and achieve the goals set forth above.

Dorothy B. Fountain,
Deputy Director of Operations, Antitrust Division.

[FR Doc. 04-25869 Filed 11-19-04; 8:45 am]

BILLING CODE 4410-11-M